FEDERAL COMMUNICATIONS COMMISSION

47 CFR Parts 1 and 63

[IB Docket No. 04-47; FCC 10-187]

Modifications of the Rules and Procedures Governing the Provisions of International Telecommunications Service

AGENCY: Federal Communications Commission.

ACTION: Final rule; announcement of effective date.

SUMMARY: In this document, the Commission announces that the Office of Management and Budget (OMB) has approved, for a period of three years, the information collection requirements in international telecommunications service regulations. The information collection requirements were approved on February 18, 2011 by OMB.

DATES: The amendments to 47 CFR 1.767(k)(4), published at 75 FR 81488, December 28, 2010, are effective on March 11, 2011.

FOR FURTHER INFORMATION CONTACT: For additional information, please contact Cathy Williams, cathy.williams@fcc.gov or on (202) 418-2918.

SUPPLEMENTARY INFORMATION: This document announces that, on February 18, 2011, OMB approved, for a period of three years, the information collection requirements contained in 47 CFR 1.7676(k)(4). The Commission publishes this document to announce the effective date of this rule section. See In the Matter of Amendment of Parts 1 and 63 of the Commission's Rules, IB Docket No. 04-47; FCC 10-187, 75 FR 81488, December 28, 2010.

Synopsis

As required by the Paperwork Reduction Act of 1995 (44 U.S.C. 3507), the Commission is notifying the public that it received OMB approval on February 18, 2011, for the information collection requirements contained in 47 CFR 1.767(k)(4). Under 5 CFR 1320, an agency may not conduct or sponsor a collection of information unless it displays a current, valid OMB Control Number.

No person shall be subject to any penalty for failing to comply with a collection of information subject to the Paperwork Reduction Act that does not display a valid OMB Control Number.

The OMB Control Number is 3060-0944 and the total annual reporting burdens for respondents for this information collection are as follows:

OMB Control Number: 3060-0944.

Title: Cable Landing License Act, 47 CFR 1.767; Executive Order 10530.

OMB Approval Date: February 18, 2011.

OMB Expiration Date: February 28, 2014.

Form No.: N/A.

Type of Review: Revision of a currently approved collection.

Respondents: Business or other for-profit.

Number of Respondents: 255 respondents; 255 responses.

Estimated Time per Response: 1-16 hours (average).

Frequency of Response: On occasion reporting requirement; third party disclosure requirement and quarterly reporting requirement.

Obligation to Respond: Required to obtain or retain benefits. The statutory authority for this information collection is contained in the Submarine Cable Landing License Act of 1921, Executive Order 10530, 47 U.S.C. 34, 151, 154(i), 154(j), 155, 225, 303(r), 309 and 325(e).

Total Annual Burden: 534 hours.

Total Annual Cost: $268,545.

Privacy Act Impact Assessment: N/A.

Nature and Extent of Confidentiality: There is no need for confidentiality with this collection of information.

Needs and Uses: On November 2, 2010, the Commission released a Recon Order titled, “In the Matter of Amendment of Parts 1 and 63 of the Commission's Rules,” IB Docket No. 04-47, FCC 10-187. In this Recon Order, the Commission amended its cable landing license application rules and application procedures to require applicants to certify their compliance with the Coastal Zone Management Act of 1972 (CZMA), as amended, 16 U.S.C. 1456. The goal of the CZMA is to preserve, protect, develop and, where possible, restore and enhance the nation's coastal resources. Therefore, 47 CFR 1.767(k)(4) states that cable landing license applicants must furnish a certification to the Commission that the applicant is not required to submit a consistency certification with any state pursuant to the Coastal Zone Management Act.

Federal Communications Commission.
Gloria Miles,
Federal Register Liaison, Office of the Secretary, Office of Managing Director.

[FR Doc. 2011-5635 Filed 3-10-11; 8:45 am]

BILLING CODE 6712-01-P